ENVIRONMENTAL PROTECTION AGENCY

[ER-FRL-9016-1]

Environmental Impact Statements; Notice of Availability

Responsible Agency: Office of Federal Activities, General Information (202) 564-7146 or http://www.epa.gov/compliance/nepa/

Weekly receipt of Environmental Impact Statements

Filed 07/14/2014 Through 07/18/2014

Pursuant to 40 CFR 1506.9.

Notice

Section 309(a) of the Clean Air Act requires that EPA make public its comments on EISs issued by other Federal agencies. EPA's comment letters on EISs are available at: http://www.epa.gov/compliance/nepa/eisdata.html

EIS No. 20140196, Second Draft Supplement, FSA, 00, PROGRAMMATIC—Conservation Reserve Program (CRP), Implement Certain Changes to the CRP as Enacted by Congress in the 2008 Farm Bill Comment Period Ends: 09/08/2014, Contact: Nell Fuller 202-720-6303.

EIS No. 20140197, Final EIS, USACE, CA, Placer Vineyards Specific Plan, Review Period Ends: 08/25/2014, Contact: William Ness 916-557-5268.

EIS No. 20140198, Draft EIS, NMFS, WA, Two Joint State and Tribal Resource Management Plans for Puget Sound Salmon and Steelhead Hatchery Programs, Comment Period Ends: 10/23/2014, Contact: Steve Leider 360-753-4650.

EIS No. 20140199, Draft EIS, USN, CA, Naval Base Coronado Coastal Campus, Comment Period Ends: 09/22/2014, Contact: Teresa Bresler 619-556-7315.

EIS No. 20140200, Final EIS, USFS, ID, Upper North Fork HFRA Ecosystem Restoration Project, Review Period Ends: 08/25/2014, Contact: Maggie Seaberg 208-865-2711.

EIS No. 20140201, Draft EIS, USFWS, NM, Proposed Revision to the Nonessential Experimental Population of the Mexican Wolf (Canis lupus baileyi), Comment Period Ends: 09/23/2014, Contact: Tracy Melbihess 208-258-0253.

Amended Notices

EIS No. 20140153, Draft EIS, NPS, NC, Cape Lookout National Seashore Off-Road Vehicle Management Plan, Comment Period Ends: 09/04/2014, Contact: Michael B. Edwards 303-969-2694 Revision to FR Notice Published on 05/23/2014; Extending Comment Period from 07/21/2014 to 09/04/2014.

EIS No. 20140165, Draft EIS, USACE, WA, Skagit River Flood Risk Management General Investigation, Comment Period Ends: 08/05/2014, Contact: Hannah Hadley 206-764-6950.

Revision to FR Notice Published on 06/06/2014; Extending Comment Period from 7/21/2014 to 08/05/2014.

Dated: July 22, 2014.
Cliff Rader,
Director, NEPA Compliance Division, Office of Federal Activities.

[FR Doc. 2014-17602 Filed 7-24-14; 8:45 am]

BILLING CODE 6560-50-P